ENVIRONMENTAL PROTECTION AGENCY

[FRL-9117-8]

Science Advisory Board Staff Office; Request for Nominations of Experts To Augment the SAB Ecological Processes and Effects Committee (EPEC)

AGENCY: Environmental Protection Agency (EPA).

ACTION: Notice.

SUMMARY: The EPA Science Advisory Board (SAB) Staff Office is requesting public nominations of non-EPA experts to augment the SAB Ecological Processes and Effects Committee (EPEC) to provide advice on technologies and systems to minimize the impacts of invasive species in vessel ballast water discharge.

DATES: Nominations should be submitted by March 18, 2010 per instructions below.

FOR FURTHER INFORMATION CONTACT: Any member of the public wishing further information regarding this Notice and Request for Nominations may contact Dr. Thomas Armitage, Designated Federal Officer (DFO), SAB Staff Office, by telephone/voice mail at (202) 343-9995; by fax at (202) 233-0643 or via e-mail at armitage.thomas@epa.gov.

General information concerning the EPA Science Advisory Board can be found on the EPA SAB Web site at http://www.epa.gov/sab. Inquiries as to the types of treatment technologies and information relevant to this effort should be directed to Ms. Robin Danesi of EPA's Office of Water at: Danesi.Robin@epa.gov or (202) 564-1846 or Mr. Marcus Zobrist of EPA's Office of Water (OW) at: zobrist.marcus@epa.gov or (202) 564-8311.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. Generally, SAB meetings are announced in the Federal Register, conducted in public view, and provide opportunities for public input during deliberations. The Ecological Processes and Effects Committee is a standing committee of the chartered SAB. Additional information about the SAB and its committees can be obtained on the SAB Web site at http://www.epa.gov/sab.

Vessel ballast water discharges are a major source of nonidigenous species introductions to marine, estuarine, and freshwater ecosystems of the United States. Ballast water discharges are regulated by EPA under authority of the Clean Water Act (CWA) and the U.S. Coast Guard under authority of the Nonindigenous Aquatic Nuisance Prevention and Control Act, as amended (NANPCA). NANPCA generally requires vessels equipped with ballast water tanks and bound for ports or places in the United States after operating beyond the U.S. Exclusive Economic Zone to conduct a mid-ocean ballast water exchange, retain their ballast water onboard, or use an alternative environmentally sound ballast water management method approved by the U.S. Coast Guard. Under the authority of the CWA, EPA's Vessel General Permit, in addition to the mid-ocean exchange, requires the flushing and exchange of ballast water by vessels in Pacific near-shore voyages and saltwater flushing of ballast water tanks that are empty or contain only un-pumpable residual ballast water.

While useful in reducing the presence of potentially invasive organisms in ballast water, ballast water exchange and saltwater flushing can have variable effectiveness and may not always be feasible due to vessel safety concerns. On August 28, 2009, the U.S. Coast Guard proposed establishing standards for concentrations of living organisms that can be discharged in vessel ballast water (74 FR 44632), and some States have established standards of their own. In addition, a number of studies and reports have been published on the status and efficacy of ballast water treatment technologies, and data collected on the efficacy of certain systems is available.

OW has requested SAB review of technical documents and available data on the efficacy of ballast water treatment systems and advice on improving the performance of such systems. This advice will be provided by the SAB EPEC augmented with experts who have specialized knowledge of treatment processes and technologies that may be useful to eliminate or reduce the presence of living organisms in vessel ballast water.

Request for Nominations: To augment expertise on the SAB EPEC, the SAB Staff Office is seeking nominations of nationally and internationally recognized scientists in fields such as aquatic biology, aquatic toxicology, microbiology, wastewater engineering, statistics, and naval engineering or architecture. We particularly seek scientists with specialized knowledge and expertise in treatment technologies to eliminate or reduce the presence of living organisms in drinking water, wastewater discharges, and other water-use circumstances.

Process and Deadline for Submitting Nominations: Any interested person or organization may nominate individuals qualified in the area of science as described above to be considered for appointment to augment this SAB Committee. Candidates may also nominate themselves. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested, and should be submitted in time to arrive no later than March 18, 2010. EPA values and welcomes diversity. In an effort to obtain nominations of diverse candidates, EPA encourages nominations of women and men of all racial and ethnic groups.

EPA's SAB Staff Office requests contact information about: The person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the Committee for which they have been nominated. From the nominees identified by respondents to this Federal Register notice (termed the “Widecast”) and other sources, the SAB Staff Office will develop a smaller subset (known as the “list of candidates”) for more detailed consideration. The list of candidates will be posted on the SAB Web site at http://www.epa.gov/sab and will include, for each candidate, the nominee's name and biosketch. Public comments on the list of candidates will be accepted for 21 calendar days. During this comment period, the public will be requested to provide information, analysis, or other documentation on nominees that the SAB Staff Office should consider in evaluating candidates for the Committee.

For the SAB, a balanced Committee is characterized by inclusion of candidates who possess the necessary domains of knowledge, the relevant scientific perspectives (which, among other factors, can be influenced by work history and affiliation) and the collective breadth of experience to adequately address the charge. Public responses to the list of candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; (e) ability to work constructively and effectively in committees; and (f) for the Committee as a whole, diversity of scientific expertise and viewpoints.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: February 18, 2010.
Vanessa T. Vu,
Director, EPA Science Advisory Board Staff Office.

[FR Doc. 2010-3718 Filed 2-24-10; 8:45 am]

BILLING CODE 6560-50-P